NATIONAL SCIENCE FOUNDATION

Committee on Equal Opportunities in Science and Engineering Notice of Meeting

In accordance with the Federal Advisory Committee Act (Pub. L. 92-463, as amended), the National Science Foundation (NSF) announces the following meeting:

NAME AND COMMITTEE CODE: Committee on Equal Opportunities in Science and Engineering (CEOSE) Advisory Committee Meeting (#1173).

DATE AND TIME:

June 9, 2017; 1:00 p.m.-5:30 p.m.

June 10, 2017; 8:30 a.m.-3:30 p.m.

PLACE: National Science Foundation, 4201 Wilson Boulevard, Arlington, VA 22230.

To help facilitate your entry into the building, please contact Vickie Fung (vfung@nsf.gov) on or prior to June 7, 2017.

TYPE OF MEETING: Open.

CONTACT PERSON: Dr. Bernice Anderson, Senior Advisor and CEOSE Executive Secretary, Office of Integrative Activities (OIA), National Science Foundation, 4201 Wilson Boulevard, Arlington, VA 22230. Contact Information: 703-292-8040/banderso@nsf.gov.

MINUTES: Meeting minutes and other information may be obtained from the CEOSE Executive Secretary at the above address or the Web site at https://www.nsf.gov/od/oia/activities/ceose/index.jsp.

PURPOSE OF MEETING: To study data, programs, policies, and other information pertinent to the National Science Foundation and to provide advice and recommendations concerning broadening participation in science and engineering.

AGENDA:

• Opening Statement by the CEOSE Chair

• NSF Executive Liaison Report

• Presentation: NSF Big Idea—INCLUDES (Inclusion across the Nation of Communities of Learners of Underrepresented Discoverers in Engineering and Science)

• Presentation: NSF Big Idea—Work at the Human-Technology Frontier: Shaping the Future

• Working Sessions: 2015-2016 CEOSE Biennial Report to Congress—Dissemination Strategy

• Presentation: Women, Minorities, and Persons with Disabilities in Science and Engineering Digest 2017

• Discussion: Future CEOSE Activities

• Discussion: CEOSE Liaisons and Federal Liaisons Reports

• Meeting with NSF Director and Acting Chief Operating Officer

Dated: May 8, 2017.
Crystal Robinson,
Committee Management Officer.

[FR Doc. 2017-09566 Filed 5-10-17; 8:45 am]

BILLING CODE 7555-01-P